DEPARTMENT OF VETERANS AFFAIRS

Advisory Committee on Gulf War Veterans; Notice of Meeting

The Department of Veterans Affairs (VA) gives notice under Public Law 92-463 (Federal Advisory Committee Act) that the Advisory Committee on Gulf War Veterans will meet on May 6-7, 2009, at the Residence Inn by Marriott, 1199 Vermont Avenue, NW., Washington, DC, from 8:30 a.m. to 5 p.m. each day. The meeting is open to the public.

The purpose of the Committee is to provide advice and recommendations to the Secretary of Veterans Affairs on issues that are unique to Veterans who served in the Southwest Asia theater of operations during the 1990-1991 period of the Gulf War.

On May 6, the Committee will hear from a panel of outreach professionals from various VA staff offices. The Committee will also receive briefings from the Executive Director of the Iraq and Afghanistan Veterans of America and other subject matter experts on Gulf War Illness research.

On May 7, the Committee will receive a briefing from the National Director of the Post Deployment Integrated Care Initiative Model about VA's strategic plan to implement the Model. In the afternoon of May 6 and 7, the Committee will discuss recommendations for its final report.

Public comments will be received on May 6, from 3:15 p.m. until 3:45 p.m. Individuals wishing to speak must register not later than May 4, 2009, by contacting Ms. Lelia Jackson at (202) 461-5758 and by submitting 1-2 page summaries of their comments for inclusion in the official record. A sign-in sheet will be available each day. Members of the public may also submit written statements for the Committee's review to the Advisory Committee on Gulf War Veterans, Department of Veterans Affairs, 810 Vermont Avenue, NW., Washington, DC 20420.

Interested parties may also listen in by teleconferencing into the meeting. The toll-free teleconference line will be open daily from 8:30 a.m. until 5 p.m. (Eastern Standard Time). To register for the teleconference, contact Ms. Lelia Jackson at (202) 461-5758 or via e-mail at lelia.jackson@va.gov.

Any member of the public seeking additional information should contact Laura O'Shea, Designated Federal Officer, at (202) 461-5765.

Dated: April 10, 2009.
E. Philip Riggin,
Committee Management Officer.

[FR Doc. E9-8972 Filed 4-17-09; 8:45 am]

BILLING CODE 8320-01-P